DEPARTMENT OF COMMERCE

National Oceanic and Atmospheric Administration

[I.D. 041805A]

Fisheries of the Exclusive Economic Zone Off Alaska; Notice of Crab Rationalization Program Public Workshop

AGENCY: National Marine Fisheries Service (NMFS), National Oceanic and Atmospheric Administration (NOAA), Commerce.

ACTION: Notice of public workshop.

SUMMARY: NMFS will present a public workshop on the new Crab Rationalization Program (Program) for participants in the Bering Sea and Aleutian Islands (BSAI) king and Tanner crab fisheries. At this workshop, NMFS will provide an overview of the Program, discuss the key Program elements, provide information on the application process, and answer questions. This workshop is specifically intended to address issues related to the Arbitration System portion of the Program. NMFS is conducting this public workshop to provide assistance to fishery participants in complying with the requirements of this new Program.

DATES: Workshop will be held May 9, 2005. See SUPPLEMENTARY INFORMATION.

ADDRESSES: Workshop will be held in Seattle, WA.

FOR FURTHER INFORMATION CONTACT: Sheela McLean, 907-586-7032 or sheela.mclean@noaa.gov.

SUPPLEMENTARY INFORMATION: On March 2, 2005, NMFS published a final rule implementing the Crab Rationalization Program (Program) as Amendments 18 and 19 to the Fishery Management Plan for Bering Sea/ Aleutian Islands King and Tanner Crabs. In January 2004, the U.S. Congress amended section 313(j) of the Magnuson-Stevens Act through the Consolidated Appropriations Act of 2004 (Pub. L. No. 108-199, section 801). As amended, section 313(j)(1) requires the Secretary to approve and implement by regulation the Program, as it was approved by the North Pacific Fishery Management Council (Council) between June 2002 and April 2003, and all trailing amendments, including those reported to Congress on May 6, 2003. In June 2004, the Council consolidated its actions on the Program into the Council motion, which is contained in its entirety in Amendment 18. Additionally, in June 2004, the Council developed Amendment 19, which represents minor changes necessary to implement the Program. The Notice of Availability for these amendments was published in the Federal Register on September 1, 2004 (69 FR 53397). NMFS approved Amendments 18 and 19 on November 19, 2004. NMFS published a proposed rule to implement Amendments 18 and 19 in the Federal Register on October 29, 2004 (69 FR 63200).

NMFS conducted four public workshops in March and April in Alaska, Oregon, and Washington to provide assistance to fishery participants in complying with the requirements of this new Program (70 FR 10992). At these workshops, NMFS provided an overview of the Program, discussed the key Program elements, and provide information on the application process.

The May 9, 2005 workshop is intended to specifically focus on the Arbitration System. Elements related to economic data collection, monitoring and enforcement, electronic reporting, quota share and individual fishing quota application and transfer provisions, the appeals process, fee collection, and the loan program may be addressed secondarily. Additionally, NMFS will answer questions from workshop participants. For further information on the Crab Rationalization Program, please visit the NMFS Alaska Region Internet site at www.fakr.noaa.gov.

Workshop Dates, Times, and Locations

NMFS will hold the public workshop as follows:

Monday, May 9, 2005, 10 a.m.-4 p.m. Pacific Standard Time (PST)-Leif Erickson Hall, 2245 Northwest 57th Street, Seattle, WA.

Special Accommodations

This workshop is physically accessible to people with disabilities. Requests for special accommodations should be directed to Sheela McLean (see FOR FURTHER INFORMATION CONTACT) at least five working days before the workshop date.

Dated: April 18, 2005.
Emily Menashes,
Acting Director, Office of Sustainable Fisheries, National Marine Fisheries Service.

[FR Doc. E5-1874 Filed 4-20-05; 8:45 am]

BILLING CODE 3510-22-S